DEPARTMENT OF LABOR

Office of the Secretary

Submission for OMB Emergency Review: Comment Request

February 27, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by March 10, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—EBSA, Office of Management and Budget, Room 10235, Washington, DC 20503, Telephone: 202-395-7316/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employee Benefits Security Administration.

Title of Collection: Notice Requirements of the Health Care Continuation Coverage—American Recovery and Reinvestment Act of 2009 Revision.

OMB Control Number: 1210-0123.

Frequency of Collection: On occasion.

Affected Public: Individuals or households; Business or other for-profit; Not-for-profit institutions.

Total Estimated Number of Respondents: 2.5 million.

Total Estimated Annual Burden Hours: 0.

Total Net Estimated Annual Costs Burden (other than hourly costs): $16.1 million.

Description: Section 3001 of the American Recovery and Reinvestment Act of 2009 (ARRA) provides “Assistance Eligible Individuals” with the right to pay reduced COBRA premiums for up to 9 months. To be considered an “Assistance Eligible Individual” and receive premium reduction an individual must: (1) be eligible for, and elect, COBRA continuation coverage, (2) have experienced an involuntary termination of employment which led to the COBRA election opportunity, (3) have experienced the involuntary termination during the period beginning September 1, 2008, and ending December 31, 2009. Individuals who experienced an involuntary termination of employment at any time between September 1, 2008, and February 16, 2009, and were offered, but did not elect, COBRA coverage or who elected COBRA and subsequently dropped it may have the right to an additional 60-day election period.

ARRA section 3001(a)(7)(D) requires the Secretary of Labor to consult with the Secretaries of Treasury and Health and Human Services to develop model notices no later than 30 days after the date of enactment for use by group health plan and other entities, that, pursuant to ARRA, must provide notices to affected individuals regarding the availability of premium reductions and the additional election period for health care continuation coverage. The ICR relates to the issuance of the model notices.

Why are we requesting Emergency Processing? If the Department were to comply with standard PRA clearance procedures, it would not be able to publish the model notices within 30 days after the ARRA enactment date.

Darrin A. King,
Departmental Clearance Officer.

[FR Doc. E9-4733 Filed 3-4-09; 8:45 am]

BILLING CODE 4510-29-P